DEPARTMENT OF DEFENSE

Department of the Army, Corps of Engineers

Intent To Prepare a Draft Environmental Impact Statement for the Proposed Folsom South of U.S. Highway 50 Specific Plan Project, in Sacramento County, CA, Corps Permit Application Number SPK-2007-02159

AGENCY: Department of the Army, U.S. Army Corps of Engineers, DOD.

ACTION: Notice of Intent.

SUMMARY: The South Folsom Property Owners Group proposes to implement a large-scale, mixed-use, mixed-density master planned community with residential, commercial, office, public/quasi-public uses, open space, and parks. The proposed project consists of approximately 1,464 acres of residential development, 523 acres of mixed-use and commercial development, 109 acres of parks, and 1,053 acres of open space. The majority of the 1,053 acres of open space would be located in the western portion of the project site. This area includes Alder Creek, numerous cultural resources sites, and the highest concentration of oak woodland habitat within the project site.

The proposed Folsom South of 50 Specific Plan includes development of up to 10,045 mixed-density residential homes and approximately 7.4 million square feet of retail and office uses within an area south of Highway 50 that would be annexed to the City of Folsom. The proposed project would provide five elementary schools, one joint middle school/high school, and a campus for the Sacramento County Day School. It is anticipated that construction would begin in 2010. The initiation and duration of construction would depend on market conditions and receipt of environmental permits and clearances; full build-out would likely be completed within 20 years from construction commencement.

The project site is approximately 3,502 acres and contains 82.89 acres of waters of the United States. The proposed project would directly affect approximately 21.28 acres of waters of the United States, including vernal pools and other wetlands. These acreages do not include indirect impacts from the proposed action or impacts anticipated to result from off-site infrastructure that may be determined to be required as part of the U.S. Army Corps of Engineers' (USACE) Environmental Impact Statement (EIS) process.

The EIS will be prepared as a joint document with the City of Folsom. The City is the local agency responsible for preparing an Environmental Impact Report in compliance with the California Environmental Quality Act (CEQA).

DATES: The Corps and the City of Folsom will jointly conduct a public scoping meeting that will be held on Thursday, September 25, 2008 from 5 p.m. to 7 p.m.

ADDRESSES: The scoping meeting will be held at the Folsom Public Library located at 411 Stafford Street, Folsom, CA.

FOR FURTHER INFORMATION CONTACT: Ms. Lisa Gibson, (916) 557-5288, e-mail: lisa.m.gibson2@usace.army.mil.

SUPPLEMENTARY INFORMATION: Interested parties are invited to submit written comments on the permit application on or before October 1, 2008. Scoping comments should be submitted within the next 60 days, but may be submitted at any time prior to publication of the Draft EIS. To submit comments on this notice or for questions about the proposed action and the Draft EIS, please contact Lisa Gibson, 1325 J Street (Room 1480), Sacramento, CA 95814-2922. Parties interested in being added to the Corps' electronic mail notification list for the proposed project can register at: http://www.spl.usace.army.mil/regulatory/register.html. Please refer to Identification Number SPK-2007-02159 in any correspondence.

The South Folsom Property Owners Group consists of seven property owners. Each property owner would file an application for Department of the Army authorization under Section 404 of the Clean Water Act. The City of Folsom has filed a permit application for the proposed project. Because these applications are interrelated, USACE is considering them in a comprehensive and combined manner. The joint purpose of these applications is to construct a large-scale, mixed-use, mixed-density master planned community and associated supporting infrastructure. To comply with the National Environmental Policy Act (NEPA), USACE has decided to prepare an EIS to assess the potential impacts to waters of the United States from these combined applications.

The proposed Folsom South of 50 Specific Plan project site lies within unincorporated Sacramento County, CA, immediately south of the City of Folsom's existing city limits. The site is within the City of Folsom's Sphere of Influence (SOI). It is located south of U.S. Highway 50, north of White Rock Road, east of Prairie City Road, and west of the El Dorado County line.

Preliminary wetland delineations of the project site show that a total of 82.89 acres of waters of the United States are present within the proposed project area, including 4.11 acres of vernal pools, 24.43 acres of seasonal wetland swales, 4.75 acres of seasonal wetlands, 1.25 acre of freshwater marsh, 10.46 acres of freshwater seeps, 7.72 acres of ponds, 17.80 acres of stream channels (relatively permanent waters), 10.43 acres of ephemeral drainage channels (non relatively permanent waters), and 1.93 acres of ditches. The City of Folsom has applied to fill approximately 21.28 acres of these waters to construct the proposed project. These acreages do not include indirect impacts from the proposed action or impacts anticipated to result from off-site infrastructure that may be determined to be required to support the proposed project as part of the EIS process.

The EIS/EIR will include alternatives to the Proposed Action that will meet both NEPA and CEQA requirements. The alternatives will also meet the requirements of CWA Section 404(b)(1) Guidelines. At this time it is expected that the joint EIS/EIR will evaluate the following on-site alternatives: (1) No Action Alternative; (2) Proposed Action; (3) Resource Impact Minimization Alternative; (4) Centralized Development Alternative; (5) Reduced Hillside Development Alternative; (6) No Build Alternative; and at least one off-site alternative.

The Corps' public involvement program includes several opportunities to provide verbal and written comments on the proposed Folsom South of 50 Specific Plan project through the EIS process. Affected federal, state, and local agencies, Native American tribes, and other interested private organizations and parties are invited to participate. Potentially significant issues to be analyzed in depth in the EIS include loss of waters of the United States (including wetlands), and impacts related to cultural resources, biological resources, air quality, hydrology and water quality, noise, traffic, aesthetics, utilities and service systems, and socioeconomic effects.

USACE would initiate formal consultation with the U.S. Fish and Wildlife Service (USFWS) under Section 7 of the Endangered Species Act for the proposed impacts to listed species. USACE would also consult with the State Historic Preservation Office under Section 106 of the National Historic Preservation Act for properties listed or potentially eligible for listing on the National Register of Historic Places, as appropriate.

The joint lead agencies expect the Draft EIS/EIR to be made available to the public in the summer 2009.

Dated: August 22, 2008.
Thomas C. Chapman,
Colonel, U.S. Army, District Engineer.

[FR Doc. E8-21289 Filed 9-11-08; 8:45 am]

BILLING CODE 3710-EH-P